DEPARTMENT OF LABOR

Occupational Safety and Health Administration

Susan Harwood Training Grant Program, FY 2015

AGENCY: Occupational Safety and Health Administration (OSHA), Labor.

ACTION: Notice of availability of funds and funding opportunity announcements (FOA) for Targeted Topic Training and Capacity Building grants.

SUMMARY : This notice announces availability of approximately $3.5 million for Susan Harwood Training Program grants. Two separate funding opportunity announcements are available for Targeted Topic Training grants and Capacity Building grants. Two types of grants are being announced under each funding opportunity. Funding Opportunity Number SHTG-FY-15-01 will cover the two types of Targeted Topic Training grants: Targeted Topic Training and Targeted Topic Training and Educational Materials Development grants. Funding Opportunity Number SHTG-FY-15-02 will cover the two types of Capacity Building grants: Capacity Building Developmental and Capacity Building Pilot grants.

DATES: Grant applications for both Targeted Topic Training and Capacity Building grants must be received electronically by the Grants.gov system no later than 11:59 p.m., ET, on Tuesday, June 2, 2015.

ADDRESSES: The complete Susan Harwood Training Grant Program funding opportunity announcements and all information needed to apply for these funding opportunities are available at the Grants.gov Web site, http://www.grants.gov.

FOR FURTHER INFORMATION CONTACT: Questions regarding the funding opportunity announcements should be emailed to HarwoodGrants@dol.gov or directed to Heather Wanderski, Program Analyst, or Jim Barnes, Director, Office of Training Programs and Administration, at 847-759-7700 (note this is not a toll-free number). Personnel will not be available to answer questions after 5:00 p.m., ET. To obtain further information on the Susan Harwood Training Grant Program, visit the OSHA Web site at: http://www.osha.gov/dte/sharwood/index.html.

Questions regarding Grants.gov should be emailed to Support@grants.gov or directed to the Grants.gov Contact Center, at 1-800-518-4726 (toll free number). The Contact Center is available 24 hours a day, 7 days a week. The Contact Center is closed on Federal holidays.

SUPPLEMENTARY INFORMATION:

Authority and Signature

David Michaels, Ph.D., MPH, Assistant Secretary of Labor for Occupational Safety and Health, directed the preparation of this notice. The authority for this notice is Section 21 of the Occupational Safety and Health Act of 1970, (29 U.S.C. 670), Public Law 113-235, and Secretary of Labor's Order No. 1-2012 (77 FR 3912).

Funding Opportunity Number: SHTG-FY-15-01 (Targeted Topic grants)

Funding Opportunity Number: SHTG-FY-15-02 (Capacity Building grants)

Catalog of Federal Domestic Assistance Number: 17.502.

Signed at Washington, DC, on April 6, 2015.
David Michaels,
Assistant Secretary of Labor for Occupational Safety and Health.

[FR Doc. 2015-08509 Filed 4-14-15; 8:45 am]

BILLING CODE 4510-26-P